DEPARTMENT OF THE TREASURY

Fiscal Service

Financial Management Service

Proposed Collection of Information: Financial Institution Agreement and Application for Designation as a Treasury Tax and Loan Depositary; and Resolution Authorizing the Financial Institution Agreement and Application.

AGENCY: Financial Management Service, Fiscal Service, Treasury

ACTION: Notice and Request for comments.

SUMMARY: The Financial Management Service, as part of its continuing effort to reduce paperwork and respondent burden, invites the general public and other Federal agencies to take this opportunity to comment on a continuing information collection. By this notice, the Financial Management Service solicits comments concerning the FMS 458 and FMS 459 forms “Financial Institution Agreement and Application for Designation as a Treasury Tax and Loan Depositary; and Resolution Authorizing the Financial Institution Agreement and Application for Designation as a Treasury Tax and Loan Depositary.”

DATES: Written comments should be received on or before May 9, 2008.

ADDRESSES: Direct all written comments to Financial Management Service, 3700 East West Highway, Records and Information Management Branch, Room 135, Hyattsville, Maryland 20782.

FOR FURTHER INFORMATION CONTACT: Requests for additional information should be directed to Mauricio Mattos, Investment Management Division, 401 14th Street, SW., Room 318A, Washington, DC 20227, (202) 874-7868.

SUPPLEMENTARY INFORMATION: Pursuant to the Paperwork Reduction Act of 1995, (44 U.S.C. 3506(c)(2)(A)), the Financial Management Service solicits comments on the collection of information described below:

Title: Financial Institution Agreement and Application for Designation as a Treasury Tax and Loan Depositary; and Resolution Authorizing the Financial Institution Agreement and Application for Designation as a Treasury Tax and Loan Depositary.

OMB Number: 1510-0052.

Form Numbers: FMS 458 and FMS 459.

Abstract: Financial institutions are required to complete an Agreement and Application to participate in the Federal Tax Deposit/Treasury Tax and Loan Program. The approved application designates the depositary as an authorized recipient of taxpayers' deposits for Federal taxes.

Current Actions: Extension of currently approved collection.

Type of Review: Regular.

Affected Public: Business or other for-profit.

Estimated Number of Respondents: 450.

Estimated Time Per Respondent: 30 minutes (15 mins. per form).

Estimated Total Annual Burden Hours: 225.

Comments: Comments submitted in response to this notice will be summarized and/or included in the request for Office of Management and Budget approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance and purchase of services to provide information.

Sheryl R. Morrow,
Assistant Commissioner, Federal Finance.

[FR Doc. E8-4385 Filed 3-7-08; 8:45 am]

BILLING CODE 4810-35-M